DEPARTMENT OF HOMELAND SECURITY

Senior Executive Service Performance Review Board

AGENCY: Office of the Secretary, DHS.

ACTION: Notice of Federal Register.

SUMARY: This notice announces the appointment of the members of the Senior Executive Service Performance Review Boards for the Department of Homeland Security. The purpose of the Performance Review Board is to view and make recommendations concerning proposed performance appraisals, ratings, bonuses, pay adjustments, and other appropriate personnel actions for incumbents of Senior Executive Service, Senior Level and Senior Professional positions of the Department.

DATES: This Notice is effective October 2, 2015.

FOR FURTHER INFORMATION CONTACT: Elizabeth Haefeli, Office of the Chief Human Capital Officer, telephone (202) 357-8164.

SUPPLEMENTARY INFORMATION: Each federal agency is required to establish one or more performance review boards (PRB) to make recommendations, as necessary, in regard to the performance of senior executives within the agency. 5 U.S.C. 4314(c). This notice announces the appointment of the members of the PRB for the Department of Homeland Security (DHS). The purpose of the PRB is to review and make recommendations concerning proposed performance appraisals, ratings, bonuses, pay adjustments, and other appropriate personnel actions for incumbents of SES positions within DHS.

The Board shall consist of at least three members. In the case of an appraisal of a career appointee, more than half of the members shall consist of career appointees. Composition of the specific PRBs will be determined on an ad hoc basis from among the individuals listed below:

Albence, Matthew

Alles, Randolph D.

Allison, Roderick J.

Armstrong, Charles R.

Baran, Kathy

Bardorf, Tracey

Barrera, Staci

Bartlett, Jonathan M.

Beattie, John Henry

Benner, Derek

Bester, Margot

Book, Heather S.

Borkowski, Mark S.

Brasure, Wayne

Bray, Shawn

Brinsfield, Kathryn

Brothers, Reginald

Brown, A Scott

Brown, Dallas C.

Bryson, Tony

Buck, Ken

Cahill, Donna L.

Callahan, Colleen B.

Callahan, William J.

Campagnolo, Donna

Canevari, Holly

Carpenter, Dea

Carraway, Melvin

Carver, Jonathan

Castro, Raul

Chavez, Richard

Choi, Juliet

Cioppa, Thomas

Clancy, Joseph P.

Cogswell, Patricia

Colucci, Nicholas

Conklin, Jeffery

Coven, Phyllis

Cowan, Robert

Curda, Susan

DeStefano, Ernest

DiFalco, Frank J

DiPietro, Joseph R.

Dolan, Mark E.

Dougherty, Thomas E.

Driggers, Richard

Drummer, Donald G.

Dunbar, Susan

Edge, Peter

Edwards, Eric

Emerson, Catherine

Emrich, Matthew

Falk, Scott K.

Finkelstein, Martin

Fisher, Michael J.

Fitzmaurice, Stacey D.

Foucart, Bruce

Frazier, Denise

Fujimura, Paul N.

Fulghum, Chip

Gallihugh II, Ronald B.

Garner, David

Gibbs, Michael

Glawe, David J.

Grant, David

Greba, Kevin

Greene, Jonathan

Griffin, Robert P

Griggs, Christine

Grimes, Ronald

Gunter, Brett A.

Guttentag, Lucas

Hall, Christopher J.

Hatfield Jr., Mark O.

Hazuda, Mark

Healy, Craig

Hess, David

Heinz, Todd W

Henderson, Latetia M.

Hewitt, Ronald T.

Higgins, Jennifer

Highsmith, AnnMarie

Hinojosa, Ana B.

Hochman, Kathleen

Hoggan, Kelly C.

Homan, Thomas

Hutchinson, Kimberly S.

Jacksta, Linda L.

Jaddou, Ur

Jenkins, Jr., Kenneth T.

Johnson Perryman, Janet

Johnson, Tae

Jones, Franklin C.

Jones, Keith

Jones, Sophia D.

Kerner, Francine

Kerns, Kevin

Klein, Matthew

Kramar, John

Krohmer, Jon

Kruger, Mary

Kubiak, Lev

Lafferty, John

Lajoye, Darby R.

Landy, Kevin

Lane, Susan

Langlois, Joseph

Lanum, Scott

Looney, Robert

Lowery, III, Edward W.

Ludtke, Meghan G.

Magaw, Craig D.

Maher, Joseph B.

Manaher, Colleen M.

Manaher, Colleen M.

Mayenschein, Eddie D.

McAleenan, Kevin K.

McMillan, Howard

McShaffrey, Richard S.

Meckley, Tammy

Meckley, Tammy M.

Melero, Mariela

Meyer, Jonathan E.

Micone, Vince

Miles, John

Miller, Philip

Monica, Donald

Moore, Joseph

Moynihan, Timothy

Mulligan, George D.

Murata, Christina E

Muzyka, Carolyn

Neufeld, Donald

Newhouse, Victoria E.

O'Connor, Kimberly

Owen, Todd C.

Palmer, David J.

Paramore, Farom K.

Pearl, Thomas

Peterson, Mary E

Phillips, Sally

Pietropaoli, Lori

Pineiro, Marlen

Pino, Lisa

Provost, Carla L.

Quinn, Ian

Ragsdale, Daniel

Ramlogan, Riah

Randolph, William

Rapp, Marc

Redman, Kathy

Reid, Paula A.

Renaud, Daniel

Renaud, Tracy

Rice, Stephen

Richardson, Gregory

Riordan, Denis

Rittenberg, Scot

Roberts, Russell A.

Rodriguez, Leon

Rogers, Debra

Rose Jr. Pat A.

Rosenberg, Ron

Ruppel, Joanna

Scanlon, Julie A.

Schied, Eugene H.

Schmelzinger, Gilbert

Schwartz, Mark

Scialabba, Lori

Selby, Cara

Settles, Clark

Shahoulian, David

Shelton Waters, Karen R.

Silvers, Rob

Skyes, Gwendolyn

Sloan, Terry

Smislova, Melissa J

Smith, Brenda B.

Smith, Steven

Stallworth, Charles E.

Stanley, Kathleen

Strack, Barbara

Street, Stacey

Sutherland, Daniel W.

Swacina, Linda

Swain, Donald

Taylor, Frank

Tennyson, Stephanie

Terrell, Joseph P.

Thomas, Cari B. RADM

Thompson, John

Thompson, Kirt

Triplett, Cynthia R.

Trotta, Nicholas

Ulrich II, Dennis

Vanison, Denise

Vaughan, Jill A.

Velarde, Barbara

Velasquez, Andrew

Venture, Veronica

Villanueva, Raymond

Walton, Kimberly H.

Weinberg, Joseph

Wenchel, Rosemary

Windham, Nicole

Witzal, Mark

Zuchowski, Laura

This notice does not constitute a significant regulatory action under section 3(f) of Executive Order 12866. Therefore, DHS has not submitted this notice to the Office of Management and Budget. Further, because this notice is a matter of agency organization, procedure and practice, DHS is not required to follow the rulemaking requirements under the Administrative Procedure Act (5 U.S.C. 553).

Dated: September 25, 2015
Thomas Vieira,
Manager, Executive Resources Policy, Office of the Chief Human Capital Officer.

[FR Doc. 2015-25157 Filed 10-1-15; 8:45 am]

BILLING CODE 9110-9B-P